DEPARTMENT OF TRANSPORTATION

Federal Aviation Administration

14 CFR Part 47

[Docket No. FAA-2022-1514; Amdt. No. 47-33]

RIN 2120-AL45

Increase the Duration of Aircraft Registration

AGENCY: Federal Aviation Administration (FAA), U.S. Department of Transportation (DOT).

ACTION: Direct final rule; request for comments.

SUMMARY: The FAA is extending the duration of aircraft registration certificates from three years to seven years. Initial Certificates of Aircraft Registration will expire seven years from the month issued. In addition, the FAA is applying this amendment to all aircraft currently registered under existing FAA regulations governing aircraft registration, which will extend valid Certificates of Aircraft Registration to a seven-year duration. This rulemaking also makes other minor revisions to rules related to internal FAA registration processes.

DATES: This direct final rule will become effective January 23, 2023.

Send comments on or before December 22, 2022. If the FAA receives an adverse comment, the FAA will advise the public by publishing a document in the Federal Register before the effective date of this direct final rule. That document may withdraw the direct final rule in whole or in part.

ADDRESSES: Send comments identified by docket number FAA-2022-1514 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at https://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Bonnie Lefko, Program Analyst, Civil Aviation Registry, FAA Aircraft Registration Branch, Federal Aviation Administration, P.O. Box 25504, Oklahoma City, OK 73125; telephone 405-954-3131; email FAA.Aircraft.Registry@faa.gov.

SUPPLEMENTARY INFORMATION:

Table of Contents

I. Executive Summary

II. Direct Final Rule

III. Authority for This Rulemaking

IV. Discussion of the Direct Final Rule

A. Background and Purpose of Regulatory Action

B. Implementation of Section 556 of the FAA Reauthorization Act of 2018

C. Other Part 47 Amendments

V. Regulatory Notices and Analyses

A. Regulatory Evaluation

B. Regulatory Flexibility Determination

C. International Trade Impact Assessment

D. Unfunded Mandates Assessment

E. Paperwork Reduction Act

F. International Compatibility

G. Environmental Analysis

VI. Executive Order Determinations

A. Executive Order 13132, Federalism

B. Executive Order 13211, Regulations That Significantly Affect Energy Supply, Distribution, or Use

C. Executive Order 13609, International Cooperation

VII. Additional Information

A. Comments Invited

B. Confidential Business Information

C. Electronic Access and Filing

D. Small Business Regulatory Enforcement Fairness Act

List of Abbreviations Frequently Used in This Document

Application—Aircraft Registration Application, AC Form 8050-1

Certificate—Certificate of Aircraft Registration, AC Form 8050-3

Registry—Civil Aviation Registry, FAA Aircraft Registration Branch

Renewal Form—Aircraft Registration Renewal Application, AC Form 8050-1B

I. Executive Summary

This rulemaking amends the duration of all Certificates of Aircraft Registration (certificates) issued under part 47 of Title 14 of the Code of Federal Regulations (14 CFR) from three years to seven years. Aircraft owners will be required to confirm their registration information and renew their certificate every seven years, unless an event or circumstance necessitates a new registration being submitted prior to the expiration of the certificate. Accordingly, this rule adds a paragraph to § 47.40 to require aircraft owners to submit new registration forms to update their certificates prior to the seven-year expiration date if the Administrator determines that their registration information is inaccurate. These amendments apply to initial and renewed certificates in accordance with § 47.40(b) and (c).

The FAA is also revising 14 CFR 47.31(c)(1) to remove the requirement that the FAA issue a letter extending the temporary authority for an aircraft to operate when a certificate of aircraft registration has not been issued or denied within 90 days after the date the application was signed.

The FAA is also removing expired regulations pertaining to the re-registration requirement detailed in § 47.40(a) and references to re-registration in §§ 47.15(i)(1) and 47.17(a)(7). The re-registration regulations became obsolete January 1, 2014.

II. Direct Final Rule

An agency typically uses direct final rulemaking when it anticipates the rule will be noncontroversial and the agency believes it will not receive any adverse comments, and thus finds that a notice of proposed rulemaking is unnecessary.¹ The FAA has determined that this rule is suitable for direct final rulemaking. This rule alleviates burdens from owners of all aircraft registered in the United States by extending the period of registration from three years to seven years. It also alleviates burdens for owners of aircraft registered in the United States by removing the requirement that the FAA issue a letter extending the validity of aircraft registration. This rule also amends certain part 47 regulations related to agency practice and procedure, and removes requirements that have expired. The FAA has determined that this rule is suitable for direct final rulemaking as these changes are noncontroversial and the FAA does not anticipate receiving adverse comments.

¹ 14 CFR 11.15; General Rulemaking Procedures final rule, 65 FR 50849 at 50855-56 (Aug. 21, 2000).

The FAA acknowledges that Section 556 of Public Law 115-254 specifically contemplates issuance of a notice of proposed rulemaking (NPRM); however, this direct final rule meets the intent of Section 556 because the agency is providing notice and seeking comment prior to effectuating changes to the regulation.² Further, if the agency receives any substantive adverse comments, it would treat this rule as an NPRM or revise this rule prior to issuance of another direct final rule.

² See Adoption of Recommendations, 60 FR 43109, 43110-43111 (Aug. 18, 1995) (describing Administrative Conference of the United States, Recommendation 95-4, Procedures for Noncontroversial and Expedited Rulemaking).

For purposes of this direct final rule, an adverse comment is one that explains (1) why the rule is inappropriate, including challenges to the rule's underlying premise or approach; or (2) why the direct final rule will be ineffective or unacceptable without a change.³ In determining whether an adverse comment necessitates withdrawal of this direct final rule, the FAA will consider whether the comment raises an issue serious enough to warrant a substantive response had it been submitted in response to publication of an NPRM. A comment recommending additional provisions to the rule will not be considered adverse unless the comment explains how this direct final rule would be ineffective without the added provisions.⁴

³ 14 CFR 11.31(a).

⁴ 14 CFR 11.31(a)(1).

Under the direct final rule process, the FAA does not consider a comment to be adverse if that comment recommends an amendment to a different regulation beyond the regulation(s) in the direct final rule at issue. The FAA also does not consider a frivolous or insubstantial comment to be adverse.⁵

⁵ 14 CFR 11.31(a)(1) and (2).

If the FAA receives an adverse comment during the comment period, the FAA will advise the public by publishing a document in the Federal Register before the effective date of the direct final rule. This document may withdraw the direct final rule in whole or in part. If the FAA withdraws a direct final rule because of an adverse comment, the FAA may incorporate the commenter's recommendation into another direct final rule or may publish a notice of proposed rulemaking.⁶

⁶ 14 CFR 11.31(c).

If the FAA receives no adverse comments, the FAA will publish a confirmation notice in the Federal Register, generally within 15 days after the comment period closes. The confirmation notice announces the effective date of the rule.⁷

⁷ 14 CFR 11.31(b).

III. Authority for This Rulemaking

The FAA's authority to issue rules on aviation safety is found in title 49 of the United States Code (49 U.S.C.). Section 106 of 49 U.S.C. describes the authority of the FAA Administrator. Subtitle VII of 49 U.S.C., Aviation Programs, describes in more detail the scope of the agency's authority. This rule is also promulgated pursuant to 49 U.S.C. 44101-44106 and 44110-44113, which require aircraft to be registered as a condition of operation and establish the requirements for registration and registration processes. The Registry is responsible for the registration and recordation of civil aircraft.

This rulemaking is promulgated under the authority described in 49 U.S.C. 106(f), which establishes the authority of the Administrator to promulgate regulations and rules; and 49 U.S.C. 44701(a)(5), which requires the Administrator to promote safe flight of civil aircraft in air commerce by prescribing regulations and setting minimum standards for other practices, methods, and procedures necessary for safety in air commerce and national security.

This rule is also promulgated under the specific authority established in Sec. 556 of the FAA Reauthorization Act of 2018, Public Law 115-254, in which Congress required the FAA to initiate rulemaking to increase the duration of aircraft registrations for noncommercial general aviation aircraft to seven years and in which Congress gave the FAA the ability to require resubmission of aircraft registration applications that contain inaccurate information.

IV. Discussion of the Direct Final Rule

A. Background and Purpose of Regulatory Action

The Civil Aviation Registry, FAA Aircraft Registration Branch (Registry) is responsible for developing, maintaining, and operating the federal registration and recordation system for United States civil aircraft.

On July 20, 2010, the FAA published the Re-Registration and Renewal of Aircraft Registration final rule (Re-Registration Rule),⁸ which became effective October 1, 2010. The Re-Registration Rule established the current three-year duration for aircraft registrations. Prior to the Re-Registration Rule, aircraft registrations were of indefinite duration, which made it difficult for the FAA to maintain accurate aircraft registration information. While there was a requirement for aircraft owners to keep their registration up-to-date, the FAA found that many aircraft owners failed to update their registration information. Adopting the three-year duration for certificates created a regular process for aircraft owners to update their registration information. As explained in the Re-Registration Rule, the three-year duration for certificates was found at the time to provide the best balance between cost and improved accuracy of registration information.

⁸ 75 FR 41968.

The first phase of the Re-Registration Rule required each aircraft owner to re-register the aircraft within the specified six-month time period. The second phase of the Re-Registration Rule is the current renewal process. Each aircraft owner must submit a complete Renewal Form prior to the expiration of the current certificate to maintain registration. An aircraft registration not renewed prior to the expiration of its current certificate is subject to cancellation. The Re-Registration Rule responded to the concerns of law enforcement and other government agencies related to accurate, up-to-date aircraft registration information without placing an undue burden on aircraft owners.

Section 556 of the FAA Reauthorization Act of 2018 ⁹ mandated the FAA initiate rulemaking to increase the duration of aircraft registrations for noncommercial general aviation aircraft to 7 years. However, as discussed in the analysis that follows, the FAA cannot distinguish between commercial and noncommercial general aviation aircraft, as that determination is dependent upon the operations being conducted by general aviation aircraft. Consequently, it is impracticable to have different durations for commercial and noncommercial general aviation aircraft registrations. Therefore, the FAA is extending the registration duration for all aircraft to 7 years.

⁹ Public Law 115-254.

B. Implementation of Section 556 of the FAA Reauthorization Act of 2018

This action implements Section 556. Currently, an initial registration expires three years after the last day of the month it is issued.¹⁰ A renewal certificate currently expires three years from the expiration of the previous certificate.¹¹

¹⁰ The term “initial registration” refers to the certificate issued in accordance with 14 CFR 47.31.

¹¹ The term “renewal” refers to the periodic registration renewal required for any aircraft that has a certificate with an expiration.

The FAA is amending the certificate duration period to seven years for all aircraft. The FAA does not possess a list of noncommercial general aviation aircraft. Moreover, an aircraft may operate as noncommercial general aviation on one flight and commercial aviation on another flight. Therefore, this rulemaking benefits all aircraft owners by lessening the burden and cost of renewing aircraft registration and aligning all aircraft registrations with the requirement set forth by Congress. Additionally, as discussed further in the regulatory evaluation section, the FAA determined that extending registration for only noncommercial general aviation aircraft would not be cost beneficial because there are no quantifiable or monetized benefits of not also extending the duration of certificates of commercial aircraft.

Therefore, the FAA revises § 47.40(b) and (c) to increase the duration of aircraft registration to seven years. The initial registration certificate will expire seven years after the last day of the month in which it is issued. The renewal will expire seven years after the last day of the month in which it is issued. This amendment will apply to all new Certificates of Aircraft Registration issued after the effective date of this rule and Certificates of Aircraft Registration valid on the date this rule becomes effective. The duration of new registrations issued after the effective date of this direct final rule will be seven years from the date of registration; valid registrations in effect on the date of this direct final rule will be extended such that the total term of registration will be seven years from the date of issuance of the currently valid renewal, notwithstanding the expiration date on the Certificate of Aircraft Registration. See Table 1.

Table 1—Expiration Dates for Certificates of Aircraft Registration in Effect on the Effective Date of the Direct Final Rule
If the certificate was issued in— | The certificate expires in—
2019 | 2026
2020 | 2027
2021 | 2028
2022 | 2029
2023 | 2030

Additionally, the FAA is updating § 47.40 to include paragraph (c), which allows the Administrator to require an aircraft owner to submit a registration form and fee to update a registration at any time prior to the expiration date of the certificate if the information provided to the Registry is found to be inaccurate. This requirement is consistent with section 556(b) of the FAA Reauthorization Act of 2018, which requires the FAA to consider any events or circumstances that may necessitate renewal before the registration expiration.

The Registry has previously encountered instances where the FAA has determined that Certificates of Aircraft Registration contain inaccurate information. However, because part 47 does not currently contain a provision allowing the FAA to require a new registration or early renewal, the FAA has had difficulty correcting the inaccurate information. Due to the extension in duration of registration certificate, the FAA also anticipates that registration information may need to be updated more frequently, as supported by Congress's inclusion of the requirement in section 556(b). This amendment enables timely provision of accurate aircraft registration information.

C. Other Part 47 Amendments

The FAA is making several other amendments to 14 CFR part 47. First, the FAA is revising 14 CFR 47.31(c)(1) by removing the time limit within which the FAA must either issue a letter extending the temporary authority to continue to operate or deny the application. Section 47.31(c)(2) provides a 12-month overall limit on such temporary authority. Therefore, the FAA finds the requirement to issue this separate letter unnecessary and is removing this requirement.

Second, the FAA is removing references to the Re-Registration program, which expired on January 1, 2014. This will include removing § 47.40(a) and revising § 47.17(a)(7) to delete the word “re-registration.” The Re-Registration Rule was intended to clean up aircraft records and issue certificates with a three-year expiration date. Registered owners desiring to continue registration were required to re-register their aircraft within the established schedule. The Re-Registration process ended December 31, 2013.

Third, the FAA also makes corresponding and technical revisions to § 47.61(c).

V. Regulatory Notices and Analyses

Federal agencies consider impacts of regulatory actions under a variety of executive orders and other requirements. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble provides the FAA's regulatory evaluation of the economic impacts of this NPRM.

In conducting these analyses, the FAA has determined that this rule: (1) would result in net cost savings; (2) will impose no new costs to aircraft owners and the public without any reduction to airline safety; (3) is not an economically “significant regulatory action” under section 3(f) of Executive Order 12866; (4) will not have a substantial economic impact on a significant number of small entities; (5) will not create unnecessary obstacles to the foreign commerce of the United States; and (6) will not impose an unfunded mandate on State, local, or tribal governments, or on the private sector by exceeding the threshold identified above.

A. Regulatory Evaluation

1. Need for Regulatory Action

Section 556 of the FAA Reauthorization Act of 2018 directed the FAA to increase the duration of a certificate for noncommercial general aviation aircraft from three years to seven years. However, the FAA promulgates this rulemaking to modify the duration of a certificate for all registered aircraft, including commercial aircraft, instead of only noncommercial general aviation aircraft. Distinguishing commercial aircraft from noncommercial aircraft within the Registry is impractical and, therefore, not cost-justified. Additionally, the FAA did not identify quantifiable or monetized benefits of not extending the duration of certificates of commercial aircraft.

While the rule will reduce revenues to the FAA, it will provide private benefits in terms of cost savings to commercial and noncommercial general aviation aircraft owners.

2. Regulatory Alternatives

The FAA considered the following regulatory alternative for this rulemaking:

Extend the Duration of a Certificate to 7 Years for Only Noncommercial Aircraft

The FAA was directed to provide relief to noncommercial general aviation aircraft owners by extending the current three-year duration of a certificate to a seven-year duration. However, after reviewing all the potential costs to multiple FAA programs in identifying the commercial aircraft within the Registry and separating them from noncommercial general aviation aircraft, the FAA did not find the congressionally mandated alternative as cost beneficial as there are no quantifiable or monetized benefits of not extending the duration of certificates of commercial aircraft.

3. Baseline Conditions

The Registry collects the information necessary to establish and maintain the record for all United States civil aircraft. The aircraft record consists of three distinct elements: information about the registered owner of the aircraft, information about recorded aircraft security interests, and information concerning the airworthiness of the aircraft. In addition to the aircraft record, the Registry maintains certain ancillary files that contain related information maintained in support of registration and recordation.

The aircraft registration application requires information on the aircraft, including the registration number, manufacturer and model, and serial number. The aircraft record collected by the application does contain certain elements of personally identifiable information (PII), although generally, the PII collected is not sensitive in nature. PII collected includes registered owner name(s), aircraft identifiers, mailing address, email address,¹² and telephone numbers. The Registry does not ask the registered owners the nature or purpose of the aircraft operations, such as whether the aircraft will be used for commercial operations, noncommercial operations (e.g., recreational or hobby), or a combination of both.

¹² Email addresses will be collected on the next revision to the Application and Renewal Forms.

After a six-year rulemaking effort, the Re-Registration and Renewal program was implemented on October 1, 2010. The goal of the program was to develop a process that would achieve a level of registration data reliability to meet the current and evolving needs of users of the Registry. With the implementation of 14 CFR 47.40, aircraft owners who intended to maintain their registration were required to re-register their aircraft by December 31, 2013. Beginning October 1, 2010, all certificates issued expire 3 years from the date of issuance, but were renewable for successive three-year terms if there was no change in the ownership status of the aircraft.

Since re-registration ended on December 31, 2013, two three-year renewal cycles have taken place. The most current Aircraft Registration Information Collection Request (ICR 2120-0042), which expires on March 31, 2024, provides details of Registry records, including the annual numbers for “Applications” (74,443), “Renewal Form (paper)” (20,053), and “Renewal Form (electronic)” (55,919), along with forms that provide evidence of ownership, security agreement and flight hours report, such as AC Forms 8050-2, 8050-4, 8050-88, 8050-88A, 8050-98, and 8050-117.

The supporting statement for ICR 2120-0042 shows 75,972 renewals annually, including 55,919 electronic renewals and 20,053 paper renewals, based on workload statistics from FY 2019.¹³ A total of 235,304 aircraft had their registration renewed during the last three fiscal years, including 75,972 in FY 2019, 83,711 in FY 2020, and 75,621 in FY 2021. Based on these three fiscal years' registration figures, the FAA estimates approximately 78,435 (=235,304/3) aircraft registration renewals each year. This estimate includes all aircraft, commercial and noncommercial.

¹³ https://www.reginfo.gov/public/do/PRAViewDocument?ref_nbr=202005-2120-001.

4. Key Assumptions, Data Sources and Uncertainties

The FAA used the following assumptions and data sources:

a. Aircraft Registry, ICR 2120-0042, FAA Forecast of General Aviation Aircraft (2021-2041)

The FAA based its analysis of the rule primarily on data stored in the Aircraft Registration Database (‘Registry Database') and ICR 2120-0042.¹⁴

¹⁴ General information about FAA's Aircraft Registry can be found here: http://www.faa.gov/licenses_certificates/aircraft_certification/aircraft_registry/.

Information Collection 2120-0042 documentation is last accessed February 4, 2020 on the following web page of Office of Information and Regulatory Affairs (OIRA) at the Office of Management and Budget (OMB): https://www.reginfo.gov/public/do/PRAOMBHistory?ombControlNumber=2120-0042.

b. Period of Analysis

The FAA used a 21-year period of analysis, or three seven-year renewal cycles, to show the full impacts of the rule starting from the effective date of this rule.¹⁵

¹⁵ 21-year period of analysis should not be construed as if it will take the entire period of 21 years for the rule to take effect on affected aircraft and their owners. The rule will take effect as of the date shown above in the preamble and will immediately extend the 3-year length of existing aircraft registrations to 7-year.

c. Affected Aircraft

As discussed and explained in the Baseline Conditions above, the FAA estimated that approximately 78,435 aircraft registrations would be renewed each year using the FY 2019 through FY 2021 statistics on renewals using both electronic and paper versions of the Renewal Forms.

The FAA Aerospace Forecasts provide detailed forecast for the next twenty years (2021-2041) for all classes of aircraft. General Aviation aircraft make up the majority of aircraft that will be affected by the rule. For 2020, the FAA estimated there are 204,980 General Aviation aircraft, a total that is forecasted to increase slightly to 208,790 at the end of the forecast period in 2041.¹⁶ Other categories of aircraft that need to register with the Aircraft Registry are passenger jets, cargo jets, and regional carriers. When all these aircraft are included, the FAA estimated 211,248 aircraft (General Aviation, Passenger Jets, Cargo Jets and Regional Carriers, all combined) for 2020. The FAA forecasted a total of 211,606 aircraft for this group of aircraft. The forecast figure is virtually unchanged from the current inventory of aircraft. Therefore, we assumed that the growth rate for the Aircraft Registry throughout the 21-year period of analysis would be zero, meaning the total number of aircraft in the Aircraft Registry would be unchanged.¹⁷

¹⁶ Appendix C: Forecast Tables provide the details of each class of aircraft including General Aviation, Passenger Jets, Cargo Jets and Regional Carriers https://www.faa.gov/data_research/aviation/aerospace_forecasts/media/Appendix_C_Forecast_Tables.pdf.

¹⁷ The FAA recognizes the potential of proposed unmanned air taxis and delivery drones that would need to be registered with the FAA's Registry. However, the number of these unmanned aircraft cannot be forecasted and included in this regulatory analysis.

d. Uncertainties

The 2010 registry database showed a total number of 360,055 registered aircraft. As of December 31, 2020, the total number of registered aircraft was 286,989, a decrease of 73,066 aircraft that were de-registered in ten years, which included three 3-year renewal cycles. This significant drop of 20 percent is mainly attributed to the Re-Registration Rule that began in October 2010.¹⁸

¹⁸ The Re-Registration Rule gave the FAA the ability to remove aircraft from the FAA's registry database that no longer met registry requirements.

The total number of aircraft captured in the Aircraft Registry may continue to decline based on the current trends the FAA has observed. However, the FAA cannot determine or predict with any certainty how many aircraft will be de-registered in the coming renewal cycles. Therefore, we used the average of registration data from the last three fiscal years (FY 19 through FY 21) for the current total inventory of registered aircraft: 235,304.

5. Cost Savings

The FAA is changing the duration of an aircraft registration certificate from the current three-year cycle to a seven-year cycle. This change would result in cost savings to aircraft owners. The FAA did not identify or assess any other impacts for this rule.

Using the baseline total number of 235,304 aircraft that renewed their registration over the last three-year cycle, the FAA calculated an annual average of 78,435 aircraft owners to renew their aircraft's registration by using either electronic or paper Renewal Form.¹⁹

¹⁹ The FAA recognizes that with the current registration and renewal cycle being three years, the bulk of renewals will occur during the first three years of the first seven-year cycle. Renewals in years 4 through 7 are likely to be significantly less for a few cycles. Renewals for years 4 through 7 will result from registering expired aircraft, registering new aircraft, and changes in ownership that result in a new registration. However, for the sake of simplicity of our cost estimation, we assumed that average annual renewals to stabilize around that annual average figure (78,435) in the second and third seven-year renewal cycles, albeit this assumed annual average is likely to be reached in the third seven-year cycle.

The supporting statement for ICR 2120-0042 from March 26, 2021, estimated 30 minutes (0.5 hours) to fill out the Renewal Form (either electronic or paper).

The FAA calculates an average of 39,217.5 annual burden hours (.5 hours × 78,435 renewals) for aircraft owners or their representatives to renew their aircraft registrations. Using a $25 per hour wage for a title search clerk/legal assistant, as published in the latest ICR 2120-0042 Supporting Statement, the FAA estimates the baseline current annual burden for aircraft owners would be $1,372,613 [($5 application fee + $12.5 labor cost ²⁰) × 78,435 renewals], with $980,433 representing baseline opportunity costs associated with registration time and $392,175 representing baseline fees collected, which are considered baseline transfer payments from the private sector to government.

²⁰ $25 per hour wage rate multiplied by 30 minutes, or 0.5 hour, is $12.50 as labor cost of renewing an aircraft registration.

With this rule changing the duration of each certificate to seven years and the current inventory of aircraft in the Registry remaining the same at 235,304 throughout the 21-year period of analysis, the FAA estimates the average annual renewal applications to decrease to 33,615 (=thnsp;235,304/7). Using the same assumptions for application fee and wage rate, the annual burden for aircraft owners would be $588,262 [($5 application fee + $12.5 labor cost) × 33,615], with $ 420,187 representing the new opportunity cost associated with registration and $168,075 representing the new fees (or transfers) paid under this rule. This will result in annual private cost savings of $784,344 (undiscounted) to the aircraft owners.

The social cost savings attributable to this rule would be the difference in opportunity cost associated with time spent on registration. Note that the differences in total registration fees paid and collected are considered transfers with no net change in social costs or benefits. Based on the calculations as discussed earlier, the annual undiscounted cost savings of this rule would be equal to $560,246 ($980,433-$420,188). Over a 21-year period of analysis, the FAA estimates that the total undiscounted cost savings of this rule would be $11,765,162. At 7 percent and 3 percent discount rates, the net present value of those cost savings would be $6,070,559 and $8,636,203, respectively. Annualized cost savings would be $523,594 and $543,928 at 7 percent and 3 percent discount rates, respectively.

6. Costs

The FAA did not identify any incremental costs or burden to the 235,304 aircraft owners that would be affected by this rule. The FAA determined that there would be neither a reduction in public safety nor an increase in costs to the public.

7. Distributional Effects

As discussed previously, with the increase in the duration of aircraft registration from 3 to 7 years, there would be a decrease in registration fees paid by aircraft owners, which would reduce FAA's revenues. Over a 21-year period, this amount is $4,706,065 (undiscounted), and its net present value is $209,438 and $217,571 (at 7 percent and 3 percent discount rates, respectively).

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration. The RFA covers a wide range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination.

The FAA expects the economic impact of this rule on a small entity will be small. The rule will provide relief to small entity aircraft owners in terms of a small reduction in labor costs and registration fees per aircraft due to a longer duration for the certificate they hold for their aircraft from the current 3-year to the 7-year expiration of an aircraft registration certificate. Therefore, the FAA has determined this rule will not impose a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this rule and determined that it ensures the safety of the American public and does not exclude imports that meet this objective. As a result, this rule is not considered as creating an unnecessary obstacle to foreign commerce.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $164 million in lieu of $100 million. This rule does not contain such a mandate; therefore, the requirements of Title II of the Act do not apply.

E. Paperwork Reduction Act

The Paperwork Reduction Act of 1995 (44 U.S.C. 3507(d)) requires that the FAA consider the impact of paperwork and other information collection burdens imposed on the public. According to the 1995 amendments to the Paperwork Reduction Act (5 CFR 1320.8(b)(2)(vi)), an agency may not collect or sponsor the collection of information, nor may it impose an information collection requirement unless it displays a currently valid Office of Management and Budget (OMB) control number.

OMB Control Number 2120-0042 is revised to reflect the reduced number of respondents, annual burden hours, and monetized costs and has been submitted to OMB for review.

Summary: The FAA amends 14 CFR part 47, § 47.40, requiring aircraft registration be renewed seven years after the issuance of the certificate and every seven years thereafter, as long as ownership is not transferred or the registration has been canceled. Information from the Renewal Form is used to update registration information in the Registry's database.

Use: This information collection supports the Department of Transportation's strategic goals on safety and security. The information collected is necessary to obtain a certificate.

49 U.S.C. 44101(a) provides that a person may operate an aircraft only when it is registered under section 44013.

Prior to adoption of this direct final rule, the certificate has a 3-year expiration date. If registration is to continue, each aircraft owner must apply for renewal by completing and submitting a Renewal Form with appropriate fee prior to the expiration date on the certificate. The owner verifies the existing registration information and reports any changes. The Registry uses this information to update aircraft ownership information and places the form in the record. This rule reduces the current requirement for renewal from once every three years to once every seven years. This rule reduces the information collected to support the Registry's database.

Respondents: The likely respondents to this information requirement are aircraft owners who want to continue registration past the expiration date on their certificate. The FAA estimates the number of registration renewals would be 33,615 annually; however, the number of aircraft owners affected may vary depending upon the type of registration (e.g., individual, partnership, co-ownership, etc.). Currently, the average number of renewals is estimated at 78,435 (dividing by 3, the frequency of years in which aircraft owners are required to renew registration the total number of renewals, 235,304 (75,972 + 83,711 + 75,621) using FY19, FY20 and FY21 data.

Frequency: The FAA estimates that there would be 33,615 registration renewal forms completed annually over the 21-year period of analysis used for this rule. This is based on the current estimate of 235,304 active registered aircraft, calculated using the total number of registered aircraft from FY 2019 through FY 2021.

Annual Burden Estimate: Over 21 years, the FAA estimates an average of 33,615 Renewal Forms (either electronic or paper) would need to be completed each year. The time to complete the Renewal Form is estimated at 30 minutes. Therefore, 16,808 hours would be spent annually completing the required form. Currently, the FAA estimates an average of 39,217 annual burden hours. As described in the preliminary Regulatory Evaluation, the FAA estimates the hourly rate of an aircraft owner's or its representative's (title search or legal clerk) time at $25 per hour in 2020 dollars. The current average annual cost of completing 78,435 renewal forms, spending 39,217 hours, is approximately $980,433. On the other hand, the average cost per year to aircraft owners of renewing registration every 7 years would be $420,200 (16,808 hours multiplied by $25/hour). In addition, aircraft owners would pay a total of $168,075 to the FAA to register their aircraft ($5 fee multiplied by 33,615). The total annual burden to aircraft owners, including time to fill out the Renewal Form and $5 registration fee, would be $588,275.

The agency is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of collecting information on those who are to respond, including by using appropriate automated, electronic, mechanical, or other technological collection techniques or other forms of information technology.

Individuals and organizations may send comments on the information collection requirement to the address listed in the ADDRESSES section at the beginning of this preamble by December 22, 2022. Comments also should be submitted to the Office of Management and Budget, Office of Information and Regulatory Affairs, Attention: Desk Officer for FAA, New Executive Office Building, Room 10202, 725 17th Street NW, Washington, DC 20053.

F. International Compatibility

In keeping with U.S. obligations under the Convention on International Civil Aviation, it is FAA policy to conform to International Civil Aviation Organization (ICAO) Standards and Recommended Practices to the maximum extent practicable. The FAA has reviewed the corresponding ICAO Standards and Recommended Practices and has identified no differences with this rule.

Further, ICAO Standards set forth a model registration certificate. The FAA's certificate will exceed the standard in that model because the certificate will still include an expiration date.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6 for regulations and involves no extraordinary circumstances.

VI. Executive Order Determinations

A. Executive Order 13132, Federalism

The FAA has analyzed this rule under the principles and criteria of Executive Order 13132, Federalism. The FAA has determined that this action would not have a substantial direct effect on the States, or the relationship between the Federal Government and the States, or on the distribution of power and responsibilities among the various levels of government, and, therefore, will not have federalism implications.

B. Executive Order 13211, Regulations That Significantly Affect Energy Supply, Distribution, or Use

The FAA analyzed this rule under Executive Order 13211, Actions Concerning Regulations that Significantly Affect Energy Supply, Distribution, or Use. The agency has determined that it will not be a “significant energy action” under the executive order and will not be likely to have a significant adverse effect on the supply, distribution, or use of energy.

C. Executive Order 13609, International Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action will have no effect on international regulatory cooperation.

VII. Additional Information

A. Comments Invited

The FAA invites interested persons to participate in this rulemaking by submitting written comments, data, or views. The most helpful comments reference a specific portion of the rule, explain the reason for any recommended change, and include supporting data. To ensure the docket does not contain duplicate comments, commenters should send only one copy of written comments, or if comments are filed electronically, commenters should submit only one time.

The FAA will file in the docket all comments it receives, as well as a report summarizing each substantive public contact with FAA personnel concerning this rulemaking. Before acting on this rulemaking, the FAA will consider all comments it receives on or before the closing date for comments. The agency may change this rule in light of the comments it receives.

B. Confidential Business Information

Confidential Business Information (CBI) is commercial or financial information that is both customarily and actually treated as private by its owner. Under the Freedom of Information Act (FOIA) (5 U.S.C. 552), CBI is exempt from public disclosure. If your comments responsive to this direct final rule contain commercial or financial information that is customarily treated as private, that you actually treat as private, and that is relevant or responsive to this direct final rule, it is important that you clearly designate the submitted comments as CBI. Please mark each page of your submission containing CBI as “PROPIN.” The FAA will treat such marked submissions as confidential under the FOIA, and they will not be placed in the public docket of this direct final rule. Submissions containing CBI should be sent to the person in the FOR FURTHER INFORMATION CONTACT section of this document. Any commentary that the FAA receives which is not specifically designated as CBI will be placed in the public docket for this rulemaking.

C. Electronic Access and Filing

A copy of this direct final rule, all comments received, any confirmation document, and all background material may be viewed online at https://www.regulations.gov using the docket number listed above. A copy of this direct final rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found on the FAA's Regulations and Policies website at https://www.faa.gov/regulations_policies.

Copies may also be obtained by sending a request to the Federal Aviation Administration, Office of Rulemaking, ARM-1, 800 Independence Avenue SW, Washington, DC 20591, or by calling (202) 267-9677. Interested persons must identify the docket or amendment number of this rulemaking.

All documents the FAA considered in developing this rule, including economic analyses and technical reports, may be accessed in the electronic docket for this rulemaking.

D. Small Business Regulatory Enforcement Fairness Act

The Small Business Regulatory Enforcement Fairness Act (SBREFA) of 1996 requires the FAA to comply with small entity requests for information or advice about compliance with statutes and regulations within its jurisdiction. A small entity with questions regarding this document may contact its local FAA official, or the person listed under the FOR FURTHER INFORMATION CONTACT heading at the beginning of the preamble. To find out more about SBREFA on the internet, visit https://www.faa.gov/regulations_policies/rulemaking/sbre_act/.

List of Subjects in 14 CFR Part 47

Aircraft, Reporting, and recordkeeping requirements.

The Amendment

In consideration of the foregoing, the FAA amends chapter I of title 14, Code of Federal Regulations, as follows:

PART 47—AIRCRAFT REGISTRATION

1. The authority citation for part 47 is revised to read as follows:

Authority: 4 U.S.T. 1830; Pub. L. 115-254, Pub. L. 108-297, 118 Stat. 1095 (49 U.S.C. 40101 note, 49 U.S.C. 44101 note); 49 U.S.C. 106(f), 106(g), 40113-40114, 44101-44108, 44110-44113, 44703-44704, 44713, 45302, 46104, 46301.

§ 47.15 [Amended]

2. Amend § 47.15 by removing paragraph (i)(1) and redesignating paragraphs (i)(2) through (i)(4) as paragraphs (i)(1) through (i)(3).

3. Amend § 47.17 by revising paragraph (a) to read as follows.

§ 47.17 Fees.

(a) The fees for applications under this part are as follows:

(1) Certificate of Aircraft Registration (each aircraft) | $5.00
(2) Dealer's Aircraft Registration Certificate | 10.00
(3) Additional Dealer's Aircraft Registration Certificate (issued to same dealer) | 2.00
(4) Special registration number (each number) | 10.00
(5) To change, reassign, or reserve a registration number | 10.00
(6) Replacement Certificate of Aircraft Registration | 2.00
(7) Renewal Certificate of Aircraft Registration | 5.00

* * * * *

4. Amend § 47.31 by revising paragraph (c)(1) to read as follows:

§ 47.31 Application.

* * * * *

(c) * * *

(1) This temporary authority is valid for operation within the United States until the date the applicant receives the Certificate of Aircraft Registration or until the date, the FAA denies the application, or as provided by paragraph (c)(2) of this section.

* * * * *

5. Revise § 47.40 to read as follows:

§ 47.40 Registration expiration and renewal.

(a) Initial Registration. A Certificate of Aircraft Registration issued in accordance with § 47.31 expires seven years after the last day of the month in which it is issued.

(b) Renewal. Each holder of a Certificate of Aircraft Registration, AC Form 8050-3, containing an expiration date may apply for renewal of a Certificate of Aircraft Registration by submitting an Aircraft Registration Renewal Application, AC Form 8050-1B, and the fee required by § 47.17 during the six months preceding the expiration date for the Certificate of Aircraft Registration.

(1) A Certificate of Aircraft Registration issued under this paragraph after January 23, 2023 expires seven years after the last day of the month in which it was issued.

(2) A Certificate of Aircraft Registration that is in effect on January 23, 2023 expires seven years after the last day of the month in which it is issued, notwithstanding the expiration date on the valid Certificate of Aircraft Registration.

(c) Inaccurate Information. The Administrator may require the owner of a registered aircraft to submit a complete Aircraft Registration Application, AC Form 8050-1, and fee prior to the expiration date if the Administrator finds that the Certificate of Aircraft Registration contains inaccurate information.

6. Amend § 47.61 by revising paragraph (c) to read as follows:

§ 47.61 Dealer's Aircraft Registration Certificates.

* * * * *

(c) If a Dealer's Aircraft Registration Certificate for an aircraft registered under this subpart expires in accordance with § 47.71, the aircraft owner must submit an application for aircraft registration in accordance with § 47.31 or the assignment of registration number will be canceled in accordance with § 47.15(i)(2).

Issued under authority provided by 49 U.S.C. 106(f), 44701(a), and 44703 in Washington, DC, on or about November 16, 2022.
Billy Nolen,
Acting Administrator.

[FR Doc. 2022-25289 Filed 11-21-22; 8:45 am]

BILLING CODE 4910-13-P